DEPARTMENT OF HEALTH AND HUMAN SERVICES

Health Resources and Services Administration

Ryan White HIV/AIDS Program, Part C Early Intervention Services Grant Under the Ryan White HIV/AIDS Program

AGENCY: Health Resources and Services Administration (HRSA), Department of Health and Human Services.

ACTION: Notice of Ryan White HIV/AIDS Program Part C Early Intervention Services One-Time Noncompetitive Award to Ensure Continued HIV Primary Medical Care.

SUMMARY: To prevent a lapse in comprehensive primary care services for persons living with HIV/AIDS, HRSA will provide a one-time noncompetitive Ryan White HIV/AIDS Program Part C funds award to the Genesis Health Group (GHG), Davenport, Iowa.

SUPPLEMENTARY INFORMATION: The amount of the award to ensure ongoing HIV medical services is $429,112.

Authority: Section 2651 of the Public Health Service Act, 42 U.S.C. 300ff-51

CFDA Number: 93.918

Project period: The period of support for this award is 15 months, explained below in further detail.

Justification for the Exception to Competition: The Community Health Care, Davenport, Iowa (Grant Number: H76HA00212) announced the relinquishment of their Part C grant on January 31, 2013. To prevent a lapse in HIV medical care, grant funds of $429,112 are to be awarded to GHG to provide interim HIV medical care. The $429,112 represents a proportional share of the last award to the Community Health Care to cover 15 months of HIV medical primary care services until the service area is competed for by July 1, 2014.

FOR FURTHER INFORMATION CONTACT: John Fanning, Public Health Analyst, Division of Community Based Programs/Southern Branch, HRSA, by mail at 5600 Fishers Lane, Rockville, MD 20857; by email at jfanning@hrsa.gov; or by phone at (301) 443-0493.

Dated: May 17, 2013.
Mary K. Wakefield,
Administrator.

[FR Doc. 2013-12349 Filed 5-23-13; 8:45 am]

BILLING CODE 4165-15-P